DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the American Museum of Natural History professional staff in consultation with representatives of the Citizen Potawatomi Nation, Oklahoma; Forest County Potawatomi Community of Wisconsin Potawatomi Indians, Wisconsin; Hannahville Indian Community of Wisconsin Potawatomie Indians of Michigan; Huron Potawatomi, Inc., Michigan; Pokagon Band of Potawatomi Indians of Michigan; and Prairie Band of Potawatomi Indians, Kansas.

At an unknown date, human remains representing a minimum of two individuals from the vicinity of Peru, La Salle County, IL, were obtained by the Giffort brothers. The American Museum of Natural History has no information regarding who collected these remains or their collection date. The American Museum of Natural History acquired these remains as a purchase from the Giffort brothers in 1896. No known individuals were identified. No associated funerary objects are present.

These individuals have been identified as Native American based on the American Museum of Natural History's catalog description, which refers to the remains as “Pottawatomie,” and on cranial morphology. The remains originate from within the postcontact territory of the Potawatomi Indians.

Based on the above-mentioned information, officials of the American Museum of Natural History have determined that, pursuant to 43 CFR 10.2 (d)(1), the human remains listed above represent the physical remains of a minimum of two individuals of Native American ancestry. Officials of the American Museum of Natural History also have determined that, pursuant to 43 CFR 10.2 (e), there is a relationship of shared group identity that can be reasonably traced between these Native American human remains and the Citizen Potawatomi Nation, Oklahoma; Forest County Potawatomi Community of Wisconsin Potawatomi Indians, Wisconsin; Hannahville Indian Community of Wisconsin Potawatomie Indians of Michigan; Huron Potawatomi, Inc., Michigan; Pokagon Band of Potawatomi Indians of Michigan; and Prairie Band of Potawatomi Indians, Kansas.

This notice has been sent to officials of the Citizen Potawatomi Nation, Oklahoma; Forest County Potawatomi Community of Wisconsin Potawatomi Indians, Wisconsin; Hannahville Indian Community of Wisconsin Potawatomie Indians of Michigan; Huron Potawatomi, Inc., Michigan; Pokagon Band of Potawatomi Indians of Michigan; and Prairie Band of Potawatomi Indians, Kansas. Representatives of any other Indian tribe that believes itself to be culturally affiliated with these human remains should contact Martha Graham, Director of Cultural Resources, American Museum of Natural History, Central Park West at 79th Street, New York, NY 10024-5192, telephone (212) 769-5846, before August 1, 2001. Repatriation of the human remains to the Citizen Potawatomi Nation, Oklahoma; Forest County Potawatomi Community of Wisconsin Potawatomi Indians, Wisconsin; Hannahville Indian Community of Wisconsin Potawatomie Indians of Michigan; Huron Potawatomi, Inc., Michigan; Pokagon Band of Potawatomi Indians of Michigan; and Prairie Band of Potawatomi Indians, Kansas may begin after that date if no additional claimants come forward.

Dated: June 8, 2001.
John Robbins,
Assistant Director, Cultural Resources Stewardship and Partnerships.

[FR Doc. 01-16548 Filed 6-29-01; 8:45 am]

BILLING CODE 4310-70-F